ENVIRONMENTAL PROTECTION AGENCY

[FRL-7214-2]

Announcement of a Stakeholder Meeting on the Six-Year Review of Existing National Primary Drinking Water Regulations, as Required by the Safe Drinking Water Act

AGENCY: Environmental Protection Agency.

ACTION: Notice of a stakeholder meeting.

SUMMARY: The U.S. Environmental Protection Agency (EPA) has scheduled a public meeting to discuss the results of the Agency's preliminary findings in the review of 69 pre-1997 National Primary Drinking Water Regulations (NPDWRs). The Federal Register notice that announced the preliminary results of the review of NPDWRs (i.e., the Six-Year Review) was published by EPA on April 17, 2002.

The purpose of this meeting is to provide information to stakeholders and the public on the Six-Year Review of NPDWRs.

DATES: The stakeholder meeting will be held from 9 a.m. to 5:15 p.m. on May 30.

ADDRESSES: The meeting will be at the Washington Plaza Hotel, phone (202)842-1300, or (800)424-1140, located at 10 Thomas Circle, NW (corner of M and 14th Streets) in downtown Washington, DC. The hotel is a short distance from both the McPherson Square Metro Station (Orange and Blue Lines) and Farragut North Metro Station (Red Line).

FOR FURTHER INFORMATION CONTACT: For technical inquiries regarding the Six-Year Review of NPDWRs contact: Ms. Judy Lebowich, (202) 564-4884, e-mail: lebowich.judy@epa.gov; or Ms. Wynne Miller, (202) 564-4887, e-mail: miller.wynne@epa.gov. For registration and general information about this meeting, please contact Ms. Paula Moreno at RESOLVE, Inc., 1255 23rd Street, NW., Suite 275, Washington, DC. 20037, by phone: (202) 965-6218; by fax: (202)338-1264, or by e-mail at pmoreno@resolv.org. Those registered by May 22nd will receive background materials prior to the meeting. Additional information on these and other EPA activities under SDWA is available at the Safe Drinking Water Hotline at (800)426-4791.

SUPPLEMENTARY INFORMATION: The Safe Drinking Water Act (SDWA), as amended in 1996, requires EPA to review each national primary drinking water regulation (NPDWR) at least once every six years and revise any NPDWR as appropriate. SDWA specifies that any revision must maintain or increase public health protection. EPA developed a systematic approach, or protocol, for the review of NPDWRs in consultation with stakeholders. EPA has applied this protocol to the Agency's initial Six-Year Review of most of the NPDWRs published prior to the 1996 SDWA Amendments (i.e., pre-1997 NPDWRs). The review focused on 68 chemical NPDWRs and the Total Coliform Rule (TCR). The meeting will provide stakeholders information on EPA's protocol for the review of these 69 NPDWRs and EPA's preliminary revise/not revise decisions for these 69 NPDWRs. Comments on the Six-Year Review of NPDWRs must be submitted in writing to the Agency's Water Docket by June 17, 2002.

There will be a limited number of teleconference lines available for those who are unable to attend in person. Information about how to access these lines will accompany the pre-meeting materials to be mailed out to those who register, and also will be available prior to the day of this meeting through the previously-noted point of contact at RESOLVE, Inc.

Any person needing special accommodations at this meeting, including wheelchair access, should contact the same previously-noted point of contact at RESOLVE, Inc., at least five business days before the meeting so that the Agency can make appropriate arrangements.

Registration for this meeting will occur from 8:45 a.m. to 9 a.m.

Dated: May 15, 2002.
Cynthia C. Dougherty,
Director, Office of Ground Water and Drinking Water.

[FR Doc. 02-12685 Filed 5-17-02; 8:45 am]

BILLING CODE 6560-50-P